DEPARTMENT OF AGRICULTURE

Forest Service

Proposed New Fee Site

AGENCY: Forest Service, USDA.

ACTION: Notice of new fee site.

SUMMARY: The Payette National Forest is proposing to charge a new fee at four cabins including Paddy Flat, Burgdorf, Warren Bunkhouse, and Warren Ranger cabins. These units are currently not in use by the public. Rentals of other cabins on the Payette National Forest have shown people appreciate and enjoy the availability of rental cabins.

DATES: Comments will be accepted through September 30, 2021. New fees would go into effect in the spring of 2022, if possible.

ADDRESSES: Payette National Forest, Attention: Linda Jackson, 500 N Mission St., McCall, Idaho 83638

FOR FURTHER INFORMATION CONTACT: Emily Simpson, Recreation Specialist, 208-634-0757. Information about proposed fee changes can also be found on the Payette National Forest website: http://www.fs.usda.gov/payette.

SUPPLEMENTARY INFORMATION: The Federal Recreation Lands Enhancement Act (Title VII, Pub. L. 108-447) directed the Secretary of Agriculture to publish a six-month advance notice in the Federal Register whenever new recreation fee areas are established. A market analysis indicated that the proposed fees are both reasonable and acceptable for the type of recreation experience they provide.

Once public involvement is complete, these new fees will be reviewed by a Resource Advisory Committee prior to a final decision and implementation.

Cabins will be available for overnight rental at $160 per night for the Burgdorf Guard Station, $100 per night for the Paddy Flat Guard Station, and $120 per night for a bunkhouse and $130 per night for a cabin at the Warren Guard Station. Seasons for each of these sites will be July 1 to September 30. Fees are assessed based on the level of amenities and services provided, cost of operation and maintenance, and market assessment. Funds from the rental will be used for the continued operation and maintenance of these sites.

People wanting to rent any of these sites will need to do so through Recreation.gov, at www.recreation.gov or by calling 1-877-444-6777. Recreation.gov charges an $8 fee for reservations.

Dated: July 1, 2021.
Jennifer Eberlien,
Associate Deputy Chief, NFS.

[FR Doc. 2021-14541 Filed 7-7-21; 8:45 am]

BILLING CODE 3411-15-P